OFFICE OF PERSONNEL MANAGEMENT

Privacy Act of 1974: New System of Records

AGENCY: U.S. Office of Personnel Management (OPM).

ACTION: Notice of a new system of records.

SUMMARY: OPM proposes to add a new system of records to its inventory of records systems subject to the Privacy Act of 1974 (5 U.S.C. 552a), as amended. This action is necessary to meet the requirements of the Privacy Act to publish in the Federal Register notice of the existence and character of records maintained by the agency (5 U.S.C. 552a(e)(4)). The system has been operational since March 24, 2003 without incident. Publication of this system of records was inadvertently delayed. In the meantime, appropriate measures were taken to maintain the integrity and confidentiality of the information.

DATES: This action will be effective without further notice on September 30, 2009 unless comments are received that would result in a contrary determination.

ADDRESSES: Send written comments to the Office of Personnel Management, ATTN: Kathryn Roberson, Manager, Federal Cyber Service: Scholarship for Service Program, 8610 Broadway, Rm. 305, San Antonio, TX 78217.

FOR FURTHER INFORMATION CONTACT: Kathryn Roberson, 202-369-1011.

SUPPLEMENTARY INFORMATION: The Federal Cyber Service: Scholarship for Service Web site (SFS) allows OPM the ability to fulfill its responsibility for the SFS program which was established by the National Science Foundation in accordance with the Federal Cyber Service Training and Education Initiative, as described in the President's National Plan for Information Systems Protection, to facilitate the timely registration, selection and placement of program-enrolled students in Federal agencies. Specified OPM personnel use SFS to update student information. The system also affords registered agency officials read-only access to student resumes to consider them for placement with their agency. Furthermore, it allows registered university officials limited read-only access to students in their program so they can ensure students are meeting program requirements.

U.S. Office of Personnel Management.
John Berry,
Director.

OPM INTERNAL-18

SYSTEM NAME:

Federal Cyber Service: Scholarship For Service (SFS)

SYSTEM LOCATION:

The IT infrastructure of SFS is housed at the Center for Talent Service Technical Services Group at 4685 Log Cabin Drive, Macon, GA 31204.

CATEGORIES OF INDIVIDUALS COVERED BY THE SYSTEM:

This system contains records on certain citizens who were selected for participation in the SFS program. The system currently contains information on approximately 1000 participating students, 39 participating university officials, and 400 agency officials.

CATEGORIES OF RECORDS IN THE SYSTEM:

The records in the database may contain the following on a participating student:

a. Name.

b. Address.

c. Phone number.

d. E-mail address.

e. Employment Information.

f. Education.

The records in the database may contain the following on participating university officials:

a. Name.

b. University address.

c. University phone number.

d. University e-mail address.

e. Fax number.

The records in the database may contain the following on registered agency officials:

a. Name.

b. Agency address.

c. Agency phone number.

d. Agency e-mail address.

e. Fax number.

AUTHORITY FOR MAINTENANCE OF THE SYSTEM:

The Federal Cyber Service Training and Education Initiative as described in the President's National Plan for Information Systems Protection, gives OPM the authority to maintain the system.

PURPOSE:

The information is used by OPM's Center for Talent Services to register scholarship recipient's education and experience and to provide this information to potential Federal employers. Students are selected by participating universities/colleges to receive the scholarship. Once selected and approved by OPM, the student is provided instructions on how to register their resume on-line. Approved Federal agencies and approved university officials are then able to retrieve resumes of the scholarship recipients through a password protected website.

ROUTINE USES OF RECORDS MAINTAINED IN THE SYSTEM, INCLUDING CATEGORIES OF USERS AND THE PURPOSES OF SUCH USES:

Information in these records may be used by:

1. OPM—

(A) To maintain the database.

(B) To produce to another Federal agency or a party in litigation before a court or in an administrative proceeding being conducted by a Federal agency, when the Government is a party to the judicial or administrative proceeding, and such information is deemed by OPM to be arguably relevant and necessary to the litigation.

(C) To disclose information to the National Archives and Records Administration for use in records management inspections.

(D) To produce summary descriptive statistics and analytical studies in support of the function for which the records are collected and maintained, or for related workforce studies. While published studies do not contain individual identifiers, in some instances the selection of elements of data included in the study may be structured in such a way as to make the data individually identifiable by inference.

(E) To disclose information to the Department of Justice (DOJ), or in a proceeding before a court, adjudicative body or other administrative body before which OPM is authorized to appear, when: OPM, or any component thereof; or any employee of OPM in his or her official capacity; or any employee of OPM in his or her individual capacity where DOJ or OPM has agreed to represent the employee; or the United States, when OPM determines that litigation is likely to affect OPM or any of its components; is a party to litigation or has an interest in such litigation, and the use of such records by DOJ or OPM is deemed by OPM to be arguably relevant and necessary to the litigation provided; however, that the disclosure is compatible with the purpose for which records were collected.

(F) To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

(G) To disclose information to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

(H) To disclose information to the Federal Labor Relations Authority or its General Counsel when requested in connection with investigations of allegations of unfair labor practices or matters before the Federal Service Impasses Panel.

(I) To disclose relevant and necessary information to designated officers and employees of agencies, offices and other establishments in all branches of the Federal Government for:

(a) conducting suitability or security investigations,

(b) classifying jobs,

(c) hiring or retaining employees,

(d) evaluating qualifications, suitability and loyalty to the United States Government,

(e) granting access to classified information or restricted areas,

(f) letting a contract, issuing a license, grant, or other benefit, or

(g) providing a service performed under a contract or other agreement.

(J) To disclose information to the appropriate Federal, State, local, tribal, foreign or other public authority responsible for investigating, prosecuting, enforcing or implementing a statute, rule, regulation or order when OPM-CFIS becomes aware of an indication of a violation or potential violation of civil or criminal law or regulation.

(K) To disclose information to a congressional office in response to an inquiry made on behalf of an individual. Information will only be released to a congressional office if OPM receives a notarized authorization or signed statement under 28 U.S.C. 1746 from the subject of the investigation.

3. Approved University Officials—To view resumes of their participating students to ensure the accuracy of the students resume.

4. Approved Federal agencies—To obtain names and resumes of participating students available for employment.

POLICIES AND PRACTICES OF STORING, RETRIEVING, SAFEGUARDING, RETAINING, AND DISPOSING OF RECORDS IN THE SYSTEM:

STORAGE:

SFS maintains these records in an electronic database.

RETRIEVABILITY:

Records in SFS may be retrieved by the name of the individual about whom they are maintained.

SAFEGUARDS:

OPM has adopted appropriate administrative, technical, and physical controls in accordance with its Automated Information Systems Security Program to protect information in the SFS database. OPM restricts access to all of these records to employees who have the appropriate clearance and need-to-know.

RETENTION AND DISPOSAL:

Service Agreements are destroyed (shredded) 180 days after the student has completed their obligation to the Federal Government. The Database consisting of name, university, degree information, and hiring agency, is maintained indefinitely by graduating class for reporting and statistical purposes. SFS is currently in the process of establishing a Records Retention Schedule with NARA.

SYSTEM MANAGER AND ADDRESS:

Associate Director, Human Resources Products and Services Division, Office of Personnel Management, Room 4310, 1900 E Street, NW., Washington, DC 20415-4000.

NOTIFICATION AND RECORD ACCESS PROCEDURE:

Individuals wishing to determine whether this system of records contains information about them may do so by writing to FOI/P, OPM, ATTN: FOIA Officer, 1900 E Street, NW., Room 5415, Washington, DC 20415-7900.

Individuals must furnish the following information for their records to be located:

1. Full name.

2. Date and place of birth.

3. Social Security Number.

4. Signature.

5. Available information regarding the type of information requested.

6. The reason why the individual believes this system contains information about him/her.

7. The address to which the information should be sent.

Individuals requesting access must also comply with OPM's Privacy Act regulations regarding verification of identity and access to records (5 CFR part 297).

CONTESTING RECORD PROCEDURE:

Individuals wishing to request amendment of records about them should write to Kathryn Roberson, Manager, SFS, 8610 Broadway, Rm 305, San Antonio, TX 78217 and furnish the following information for their records to be located:

1. Full name.

2. Date and place of birth.

3. Social Security Number.

4. Signature.

5. Precise identification of the information to be amended.

Individuals requesting amendment must also follow OPM's Privacy Act regulations regarding verification of identity and amendment to records (5 CFR part 297).

RECORD SOURCE CATEGORIES:

Information in this system of records is obtained from:

1. The individual to whom the information applies.

SYSTEM EXEMPTIONS:

None.

[FR Doc. E9-20092 Filed 8-20-09; 8:45 am]

BILLING CODE 6325-38-P